DEPARTMENT OF STATE

[Public Notice 6881]

Advisory Committee on International Postal and Delivery Services

AGENCY: Department of State.

ACTION: Notice; FACA Committee meeting announcement.

SUMMARY: As required by the Federal Advisory Committee Act, Public Law 92-463, the Department of State gives notice of a meeting of the Advisory Committee on International Postal and Delivery Services. This Committee has been formed in fulfillment of the provisions of the 2006 Postal Accountability and Enhancement Act (Pub. L. 109-435) and in accordance with the Federal Advisory Committee Act. The Committee meeting scheduled for Thursday, February 11, 2010, was cancelled due to inclement weather.

Public input: Any member of the public interested in providing public input to the meeting should contact Mr. Chris Wood, whose contact information is listed under the FOR FURTHER INFORMATION CONTACT section of this notice. Each individual providing oral input is requested to limit his or her comments to five minutes. Requests to be added to the speaker list must be received in writing (letter, e-mail, or fax) prior to the close of business on March 4, 2010; written comments from members of the public for distribution at this meeting must reach Mr. Wood by letter, e-mail, or fax by this same date. A member of the public requesting reasonable accommodation should make the request to Mr. Wood by that same date.

Meeting agenda: The agenda of the meeting will include a review of the results of the October-November 2009 session of the UPU Council of Administration and other subjects related to international postal and delivery services of interest to Advisory Committee members and the public.

DATES: March 11, 2010, from 2 p.m. to about 5 p.m. (open to the public).

Location: The American Institute of Architects (Boardroom), 1735 New York Ave., NW., Washington, DC 20006.

For further information, please contact Christopher Wood, Office of Global Systems (IO/GS), Bureau of International Organization Affairs, U.S. Department of State, at (202) 647-1044, woodcs@state.gov.

Dated: February 17, 2010.
Dennis M. Delehanty,
Foreign Affairs Officer, Department of State.

[FR Doc. 2010-3712 Filed 2-23-10; 8:45 am]

BILLING CODE 4710-19-P